OFFICE OF SCIENCE AND TECHNOLOGY POLICY

Workshop on Manufacturing Research and Development in Three Priority Areas: Nanomanufacturing, Manufacturing for the Hydrogen Economy, and Intelligent and Integrated Manufacturing Systems; Sponsored by the National Science and Technology Council, Committee on Technology, Interagency Working Group on Manufacturing Research and Development

ACTION: Notice of open meeting.

SUMMARY: A public forum sponsored by the Manufacturing Research and Development Interagency Working Group (IWG) of the Committee on Technology, National Science and Technology Council (NSTC) will be held to review the current state of manufacturing research and development in three priority areas: nanomanufacturing, manufacturing for the hydrogen economy, and intelligent and integrated manufacturing systems.

DATES AND ADDRESSES: The Manufacturing Research and Development Interagency Working Group (IWG) will hold a one-day public forum on Thursday, March 3, 2005, from 8:30 a.m. to 4 p.m. The public forum will be held in the auditorium at the Department of Commerce, 1401 Constitution Avenue NW., Washington, DC 20418.

FOR FURTHER INFORMATION CONTACT: For information regarding this Notice, please contact Susan Skemp, Office of Science and Technology Policy, Washington, DC. Telephone: (202) 456-6043. Email: sskemp@ostp.eop.gov.

SUPPLEMENTARY INFORMATION: The Manufacturing Research and Development Interagency Working Group (R&D IWG) was established based on a recommendation of the January 2004 Department of Commerce report, Manufacturing in America: A Comprehensive Strategy to Address the Challenges to U.S. Manufacturers.

The purpose of this public forum is to provide feedback to the Manufacturing R&D IWG regarding the current state of manufacturing research and development in the three focus areas of nanomanufacturing, manufacturing for the hydrogen economy, and intelligent and integrated manufacturing systems. The IWG will consider this information in making recommendations aimed at guiding Federal manufacturing R&D programs for the next five to ten years. Following presentations on research progress in the three focus areas, workshop participants will be asked to review current research areas and to identify challenges and gaps.

Public Participation: This meeting is open to the public. Time has been reserved for public comments; written statements may be submitted at 4 p.m. on March 3, 2005, or via the Web site at http://www.ostp.gov/mfgiwg. Registration for the public forum for interested persons is required and will be via the Web site. In addition, non-participants will have the opportunity to review the workshop material and provide feedback via the Web site. The agenda for the workshop will be posted on the Web site.

The NSTC was established under Executive Order 12881.

Ann F. Mazur,
Assistant Director for Budget and Administration.

[FR Doc. 05-1750 Filed 1-31-05; 8:45 am]

BILLING CODE 3170-W5-P